POSTAL SERVICE

Removal of Return Receipt for Merchandise Service From the Market-Dominant Product List

AGENCY: Postal Service™.

ACTION: Notice.

SUMMARY: The Postal Service hereby provides notice that it has filed a request with the Postal Regulatory Commission to remove Return Receipt for Merchandise service from the Mail Classification Schedule's market-dominant product list.

DATES: Effective date: November 25, 2014.

FOR FURTHER INFORMATION CONTACT: John F. Rosato, 202-268-8597, or john.f.rosato@usps.gov.

SUPPLEMENTARY INFORMATION: On November 17, 2014, the United States Postal Service® (Postal Service) filed a request with the Postal Regulatory Commission to remove Return Receipt for Merchandise service from the Mail Classification Schedule's market-dominant product list, pursuant to 39 U.S.C. 3642. Approval of this request would simplify the Postal Service's Ancillary Services product by recognizing that: (1) Return Receipt for Merchandise service has become outmoded; and (2) equivalent or improved product features can be obtained by transitioning to Signature Confirmation™ service or Certified Mail® service (return receipt requested). Interested persons may comment on, or view documents pertinent to, this request at http://www.prc.gov, Docket No. MC2015-8.

Stanley F. Mires,
Attorney, Federal Requirements.

[FR Doc. 2014-27805 Filed 11-24-14; 8:45 am]

BILLING CODE 7710-12-P